DEPARTMENT OF HEALTH AND HUMAN SERVICES

Centers for Disease Control and Prevention

[60Day-15-0941; Docket No. CDC-2015-0084]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled Evaluation of Dating Matters: Strategies to Promote Healthy Teen Relationships. CDC will use the information to continue the ongoing longitudinal follow-up for CDC's teen dating violence (TDV) prevention initiative, Dating Matters®: Strategies to Promote Healthy Teen Relationships.

DATES: Written comments must be received on or before November 23, 2015.

ADDRESSES: You may submit comments, identified by Docket No. CDC-2015-0084 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Evaluation of Dating Matters®: Strategies to Promote Healthy Teen Relationships (OMB Control Number 0920-0941, expiration date 5/30/2016)—Revision—National Center for Injury Prevention and Control (NCIPC), Centers for Disease Control and Prevention (CDC).

Background and Brief Description

The Centers for Disease Control and Prevention (CDC) is seeking a revision request that will enable continued longitudinal follow-up for CDC's teen dating violence (TDV) prevention initiative, Dating Matters®: Strategies to Promote Healthy Teen Relationships. The initial evaluation of this initiative, a cluster randomized controlled trial (RCT), is covered under the current OMB-approved Information Collection Request entitled, “Evaluation of Dating Matters®: Strategies to Promote Healthy Teen Relationships,” (OMB Control Number 0920-0941, Expiration 5/30/2016). Approval of this revision request will allow us to continue to assess the effectiveness of the CDC-developed comprehensive approach to TDV for longer-term follow-up as the students in our sample age and their engagement in dating relationships increases. The current evaluation of Dating Matters® tests a comprehensive approach to prevent TDV among youth in high-risk urban communities.

In order to address gaps in effective prevention programming for youth in urban communities with high crime and economic disadvantage, who may be at highest risk for TDV perpetration and victimization, Dating Matters® focuses on middle school youth with universal primary prevention strategies aimed at building a foundation of healthy relationship skills before dating and/or TDV is initiated. All data collected as part of this request will be used in the longitudinal outcome evaluation of the Dating Matters® initiative. No teen dating violence comprehensive program has been developed and implemented specifically for high risk urban communities. Further, no other data source exists to examine the effectiveness of the Dating Matters® initiative for preventing dating violence.

The evaluation utilizes a cluster randomized design in which 46 schools in four funded communities (Alameda County, California; Baltimore, Maryland; Broward County, Florida; and, Chicago, Illinois), were randomized to either Dating Matters® or standard practice, and we seek to continue evaluation activities in these four communities. Therefore, this data collection is critical to understand the effectiveness, feasibility, and cost of Dating Matters® and to inform decisions about disseminating the program to other communities.

OMB approval is requested for three years for this revision. The only cost to respondents will be time spent on responding to the survey.

Estimated Annualized Burden Hours
Type of respondent | Form name | Number of respondents | Number of responses per respondent | Average burden per response (in hrs.) | Total burden hours (in hrs.)
Student Program Participant | Student Outcome Survey Follow-up—Attachment E: and web version | 4,399 | 1 | 45/60 | 3,299
Total |  |  |  |  | 3,299

Leroy A. Richardson,
Chief, Information Collection Review Office, Office of Scientific Integrity, Office of the Associate Director for Science, Office of the Director, Centers for Disease Control and Prevention.

[FR Doc. 2015-24030 Filed 9-21-15; 8:45 am]

BILLING CODE 4163-18-P